FEDERAL COMMUNICATIONS COMMISSION

47 CFR Part 73

[MB Docket No. 25-215; RM-12005; DA 25-583; FR ID 302667]

Television Broadcasting Services Jacksonville, Oregon

AGENCY: Federal Communications Commission.

ACTION: Proposed rule.

SUMMARY: This document proposes to amend the Table of TV Allotments (table) of the Federal Communications Commission's (Commission) rules by substituting channel *24 for channel *4 at Jacksonville, Oregon in response to a Petition for Rulemaking filed by theDove Media, Inc., the permittee of a new noncommercial educational (NCE) television station to serve Jacksonville, Oregon, Facility ID No. 791569. The staff engineering analysis finds that the proposal is in compliance with the Commission's principal community coverage and technical requirements. The substitution of channel *24 for channel *4 in the table will allow Petitioner to construct its new facility on a UHF channel and avoid the known viewer reception issues on its currently authorized VHF channel.

DATES: Comments must be filed on or before August 18, 2025 and reply comments on or before September 2, 2025.

ADDRESSES: Federal Communications Commission, Office of the Secretary, 45 L Street NE, Washington, DC 20554. In addition to filing comments with the FCC, interested parties should serve counsel for the Petitioner as follows: Emilie de Lozier, Wilkinson Barker Knauer, LLP, 1800 M Street NW, Suite 800N, Washington, DC 20036.

FOR FURTHER INFORMATION CONTACT: Emily Harrison, Media Bureau, at Emily.Harrison@fcc.gov, (202) 418-1665, or Mark Colombo, Media Bureau, at Mark.Colombo@fcc.gov, (202) 418-7611.

SUPPLEMENTARY INFORMATION: This is a synopsis of the Commission's Notice of Proposed Rulemaking, MB Docket No. 25-215; RM-12005; DA 25-583, adopted July 8, 2025, and released July 8, 2025. The full text of this document is available online at https://www.fcc.gov/edocs.

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a notice of proposed rulemaking is issued to the time the matter is no longer subject to Commission consideration or court review, see 47 CFR 1.1208. There are, however, exceptions to this prohibition, which can be found in § 1.1204(a) of the Commission's rules, 47 CFR 1.1204(a).

See §§ 1.415 and 1.420 of the Commission's rules for information regarding the proper filing procedures for comments, 47 CFR 1.415 and 1.420.

Providing Accountability Through Transparency Act: The Providing Accountability Through Transparency Act, Public Law 118-9, requires each agency, in providing notice of a rulemaking, to post online a brief plain-language summary of the proposed rule. The required summary of this notice of proposed rulemaking is available at https://www.fcc.gov/proposed-rulemakings.

List of Subjects in 47 CFR Part 73

Television.

Federal Communications Commission.
Thomas Horan,
Chief of Staff, Media Bureau.

Proposed Rule

For the reasons discussed in the preamble, the Federal Communications Commission proposes to amend 47 CFR part 73 as follows:

PART 73—RADIO BROADCAST SERVICES

1. The authority citation for part 73 continues to read as follows:

Authority: 47 U.S.C. 154, 155, 301, 303, 307, 309, 310, 334, 336, 339.

2. In § 73.622, in the table in paragraph (j), under Oregon, revise the entry for “Jacksonville” to read as follows:

§ 73.622 Digital television table of allotments.

* * * * *

(j) * * *

Community | Channel No.
* * * * *
Oregon
* * * * *
Jacksonville | *24
* * * * *

* * * * *

[FR Doc. 2025-13463 Filed 7-17-25; 8:45 am]

BILLING CODE 6712-01-P